DEPARTMENT OF COMMERCE

International Trade Administration

[A-570-803]

Heavy Forged Hand Tools, Finished or Unfinished, With or Without Handles, From the People's Republic of China: Final Results of Antidumping Duty Administrative Reviews and Final Rescission and Partial Rescission of Antidumping Duty Administrative Reviews

AGENCY: Import Administration, International Trade Administration, Department of Commerce.

SUMMARY: On March 10, 2005, the Department of Commerce (the “Department”) published in the Federal Register the preliminary results of the administrative review of the antidumping duty order on heavy forged hand tools, finished or unfinished, with or without handles (“HFHTs”), from the People's Republic of China (“PRC”). See Heavy Forged Hand Tools, Finished or Unfinished, With or Without Handles, From the People's Republic of China: Preliminary Results of Administrative Reviews and Preliminary Partial Rescission of Antidumping Duty Administrative Reviews, 70 FR 11934 (March 10, 2005) (“Preliminary Results”). We gave interested parties an opportunity to comment on the Preliminary Results and conducted verification of two Respondents. Based upon our analysis of the comments and information received, we made changes to the dumping margin calculations for the final results. We find that certain manufacturers/exporters sold subject merchandise at less than normal value during the POR.

EFFECTIVE DATE: September 19, 2005.

FOR FURTHER INFORMATION CONTACT: Paul Walker or Julia Hancock, AD/CVD Operations, Office 9, Import Administration, International Trade Administration, U.S. Department of Commerce, 14th Street and Constitution Avenue, N.W., Washington, D.C. 20230; telephone: (202) 482-0413 or (202) 482-1394, respectively.

SUPPLEMENTARY INFORMATION:

Case History

The Preliminary Results in this administrative review were published on March 10, 2005. Since the Preliminary Results, the following events have occurred:

On March 18, 2005, the Department sent pre-verification questionnaires to TMC and Huarong. On March 22, 2004, the Department served the verification schedules for TMC and Huarong on all interested parties. On March 28, 2005, TMC and Huarong submitted their responses to the Department's March 18, 2005 pre-verification questionnaires.

On April, 4, 2005, TMC submitted a request for an extension of time to prepare for verification. On April 5, 2005, TMC withdrew its request for an extension of time to prepare for verification. On April 5, 2005, the Department sent a second pre-verification questionnaire to TMC. On April 8, 2005, TMC submitted its response to the Department's second pre-verification questionnaire. The Department conducted verification of the data submitted by Huarong and TMC on April 11-15, 2005 and April 18-20, 2005, respectively.

On April 18, 2005, the Department received Huarong's verification Exhibits. On April 22, 2005, the Department received TMC's verification Exhibits. On April 27, 2005, Shandong Jinma Industrial Group Company, Ltd. (“Jinma”) requested that the reviews be rescinded with respect to Jinma. On May 17, 2005, the verification report for Huarong was completed. On May 23, 2005, the verification report for TMC was completed.

On June 7, 2005, the Department preliminarily rescinded the review with respect to Jinma and requested that parties comment on this rescission in their briefs. On June 13, 2005, the Petitioner¹ and Respondents submitted their case briefs. On June 20, 2005, the Petitioner and Respondents submitted their rebuttal briefs.

¹ Ames True Temper.

On June 27, 2005, the Department extended the time limit for completion of the final results of the instant administrative review. See Heavy Forged Hand Tools, Finished or Unfinished, With or Without Handles, From the People's Republic of China: Extension of Time Limit for the Final Results of the Antidumping Duty Administrative Review, 70 FR 36928 (June 27, 2005).

Scope of the Order

The products covered by these orders are HFHTs comprising the following classes or kinds of merchandise: (1) Hammers and sledges with heads over 1.5 kg (3.33 pounds) (hammers/sledges); (2) bars over 18 inches in length, track tools and wedges (bars/wedges); (3) picks and mattocks (picks/mattocks); and (4) axes, adzes and similar hewing tools (axes/adzes).

HFHTs include heads for drilling hammers, sledges, axes, mauls, picks and mattocks, which may or may not be painted, which may or may not be finished, or which may or may not be imported with handles; assorted bar products and track tools including wrecking bars, digging bars, and tampers; and steel woodsplitting wedges. HFHTs are manufactured through a hot forge operation in which steel is sheared to required length, heated to forging temperature, and formed to final shape on forging equipment using dies specific to the desired product shape and size. Depending on the product, finishing operations may include shot blasting, grinding, polishing and painting, and the insertion of handles for handled products. HFHTs are currently provided for under the following Harmonized Tariff Schedule of the United States (“HTSUS”) subheadings: 8205.20.60, 8205.59.30, 8201.30.00, and 8201.40.60. Specifically excluded from these investigations are hammers and sledges with heads 1.5 kg. (3.33 pounds) in weight and under, hoes and rakes, and bars 18 inches in length and under.

The Department has issued six conclusive scope rulings regarding the merchandise covered by these orders: (1) On August 16, 1993, the Department found the “Max Multi-Purpose Axe,” imported by the Forrest Tool Company, to be within the scope of the axes/adzes order; (2) on March 8, 2001, the Department found “18-inch” and “24-inch” pry bars, produced without dies, imported by Olympia Industrial, Inc. and SMC Pacific Tools, Inc., to be within the scope of the bars/wedges order; (3) on March 8, 2001, the Department found the “Pulaski” tool, produced without dies by TMC, to be within the scope of the axes/adzes order; (4) on March 8, 2001, the Department found the “skinning axe,” imported by Import Traders, Inc., to be within the scope of the axes/adzes order; (5) on December 9, 2004, the Department found the “MUTT,” imported by Olympia Industrial, Inc., under HTSUS 8205.59.5510, to be within the scope of the axes/adzes order; and (6) on May 23, 2005, the Department found 8 inch by 8 inch and 10 inch by 10 inch cast tampers, imported by Olympia Industrial, Inc. to be outside the scope of the orders.

We also note that on May 12, 2005, the Department initiated a formal scope inquiry on the “Mean Green Splitting Machine” imported by Avalanche Industries. This decision is currently due on September 23, 2005.

Rescission of Review

We preliminarily rescinded these reviews with respect to Shanghai Xinike Trading Company, Ltd. (“Olympia Shanghai”), Ningbo Tiangong Great Star Tools Company, Ltd. (“Ningbo”), Fexian Hualu Tool Company, Ltd. (“Fexian”), Jinhua Twin-Star Tools Company (“Jinhua”), Ltd. and ZhangJiagang Tianda Special Hardware Company, Ltd. (“ZhangJiagang”), which reported that they did not sell merchandise subject to any of the four HFHT antidumping orders during the POR. See Preliminary Results at 11937. As stated above, on June 7, 2005, the Department preliminarily rescinded the reviews with respect to Jinma, which requested on April 27, 2005, that the reviews be rescinded because it did not sell merchandise subject to any of the four HFHT antidumping orders during the POR. See the Department's June 7, 2005 letter to All Interested Parties.

For Olympia Shanghai, Ningbo, Fexian, Jinhua, ZhangJiagang and Jinma, the Department reviewed data from Customs and Border Protection (“Customs”), which supports the claims that these companies did not export subject merchandise during the POR. Furthermore, no party has placed evidence on the record demonstrating that these companies exported the merchandise identified above during the POR. Therefore, in accordance with 19 CFR 351.213(d)(3) and consistent with the Department's practice, we are rescinding these administrative reviews with respect to the companies and merchandise identified above.

In addition, we also preliminarily rescinded the review of Huarong with respect to the hammers/sledges and picks/mattocks orders, since Huarong reported that they made no shipments of subject hammers/sledges and picks/mattocks during the POR. See Preliminary Results at 11937.

The Department reviewed Customs data which supports the claim that Huarong did not export hammers/sledges and picks/mattocks during the POR. Furthermore, no party has placed evidence on the record demonstrating that Huarong exported the merchandise identified above during the POR. Therefore, in accordance with 19 CFR 351.213(d)(3) and consistent with the Department's practice, we are rescinding these administrative reviews on hammers/sledges and picks/mattocks with respect to Huarong.

Analysis of Comments Received

All issues raised in the case and rebuttal briefs by parties to this proceeding and to which we have responded are listed in the Appendix to this notice and addressed in the Issues and Decision Memorandum, which is hereby adopted by this notice. Parties can find a complete discussion of the issues raised in this administrative review and the corresponding recommendations in this public memorandum which is on file in the Central Records Unit (CRU), room B-099 of the main Department building. In addition, a complete version of the Issues and Decision Memorandum can be accessed directly on the internet at http://ia.ita.doc.gov/. The paper copy and electronic version of the Issues and Decision Memorandum are identical in content.

Verification

As provided in section 782(i) of the Act, we verified the information submitted by TMC and Huarong for use in our final results. See the Department's verification reports on the record of this investigation in the CRU with respect to TMC and Huarong. For all verified companies, we used standard verification procedures, including examination of relevant accounting and production records, as well as original source documents provided by the Respondents.

During verification, TMC informed the Department that its supplier of picks/mattocks had all accounting books seized by the Tianjin Tax Authority, thereby rendering the Department unable to verify any of TMC's factors of production for picks/mattocks. See Memorandum to the File from Paul Walker, Verification of Sales for Tianjin Machinery Import & Export Corporation in the 13th Administrative Review of Heavy Forged Hand Tools from the People's Republic of China, dated May 23, 2005.

Facts Available

In the Preliminary Results, we based the dumping margins for Huarong and TMC on total adverse facts available (“AFA”) for their sales of merchandise subject to certain HFHTs orders pursuant to sections 776(a) and 776(b) of the Tariff Act of 1930, as amended (the “Act”). See Preliminary Results, 70 FR 11934 at 11938-39. We continue to apply total AFA to Huarong for bars/wedges and TMC for bars/wedges, axes/adzes and hammers/sledges because they significantly impeded our ability to (1) conduct the reviews of these orders, and (2) instruct Customs to assess the correct antidumping duties, as mandated by section 731 of the Act. Huarong and TMC participated in an “agent” sales scheme whereby one PRC company allowed another PRC company to enter subject merchandise using the first company's invoices. In addition, we have applied total AFA to TMC in the review of the picks/mattocks order due to TMC's failed FOP verification. See Issues and Decision Memorandum at Comment 9 (a). Lastly, we continue to find that the companies that constitute the PRC-wide entity, which did not establish entitlement to a separate rate, failed to provide requested information. For this reason, we continue to find that, in accordance with sections 776(a)(2)(A), (B), and (C) of the Act, it is appropriate to base the PRC-wide margin in these reviews on total AFA.

Section 776(b)(4) of the Act permits the Department to use, as AFA, information from the less than fair value (“LTFV”) investigation or any prior review. Thus, in selecting an AFA rate, the Department's practice has been to assign Respondents who fail to cooperate with the Department's requests for information the highest margin determined for any party in the LTFV investigation or in any administrative review. See, e.g., Stainless Steel Plate in Coils from Taiwan; Preliminary Results and Rescission in Part of Antidumping Duty Administrative Review, 67 FR 5789 (February 7, 2002). As AFA, we are assigning to the PRC-wide entity's sales of axes/adzes, bars/wedges, hammers/sledges, and picks/mattocks the rates of 174.58, 139.31, 45.42, and 98.77 percent, respectively. The rates selected for bars/wedges was published in the most recently completed review of the HFHTs orders. See Heavy Forged Hand Tools, Finished or Unfinished, With or Without Handles, From the People's Republic of China: Final Results of Antidumping Duty Administrative Reviews, Final Partial Rescission of Antidumping Duty Administrative Reviews, and Determination Not To Revoke in Part, 69 FR 55581 (September 15, 2004) (“Final Results of the 12th Review”) as amended. The rate selected as AFA for hammers/sledges was originally from the LTFV investigation and is currently the PRC-wide rate. See Final Results of the 12th Review as amended. The rate for axes/adzes was calculated in the instant review. The rate for picks/mattocks was calculated in the 5th review and corroborated in the Final Results of the 12th Review as amended.

A complete explanation of the selection, corroboration, and application of AFA can be found in the Preliminary Results. See Preliminary Results, 70 FR at 11938-41. The Department received comments and rebuttal comments with regard to certain aspects of our selection and application of AFA. See Issues and Decision Memorandum, at Comments 2, 3, 8 and 9. Nothing has changed since the Preliminary Results that would affect the Department's selection, corroboration, and application of facts available for the above-referenced companies and orders, except for the AFA rate used for picks/mattocks. Accordingly, for the final results, we continue to apply AFA as noted above.

Final Results of Review

The weighted-average dumping margins for the POR are as follows:

Manufacturer/exporter | Margin (percent)
Huarong:
Axes/Adzes | 174.58
PRC-Wide Entity²:
Axes/Adzes | 174.58
Bars/Wedges | 139.31
Hammers/Sledges | 45.42
Picks/Mattocks | 98.77
² Including TMC for all four orders (hammers/sledges, bars/wedges, axes/adzes and picks/mattocks) and Huarong for the bars/wedges order.

Cash Deposit Requirements

The following deposit requirements will be effective upon publication of the final results of these administrative reviews for all shipments of HFHTs from the PRC entered, or withdrawn from warehouse, for consumption on or after the publication date of this notice, as provided for by section 751(a)(1) of the Act: (1) The cash deposit rates for the reviewed companies named above will be the rates for those firms established in the final results of these administrative reviews; (2) for any previously reviewed or investigated PRC or non-PRC exporter, not covered in these reviews, with a separate rate, the cash deposit rate will be the company-specific rate established in the most recent segment of these proceedings; (3) for all other PRC exporters, the cash deposit rates will be the PRC-wide rates established in the final results of these reviews; and (4) the cash deposit rate for any non-PRC exporter of subject merchandise from the PRC who does not have its own rate will be the rate applicable to the PRC exporter that supplied the non-PRC exporter. These deposit requirements, when imposed, shall remain in effect until publication of the final results of the next administrative reviews.

The PRC-Wide Cash Deposit Rates

The current PRC-wide cash deposit rates are 174.58 percent for axes/adzes, 139.31 percent for bars/wedges, 45.42 percent for hammers/sledges, and 98.77 percent for picks/mattocks. These deposit requirements shall remain in effect until publication of the final results of the next administrative reviews.

Assessment Rates

Upon completion of these administrative reviews, the Department will determine, and Customs shall assess, antidumping duties on all appropriate entries. In accordance with 19 CFR 351.212(b)(1), for the respondent receiving a calculated dumping margin, we calculated importer-specific per-unit duty assessment rates based on the ratio of the total amount of the dumping duties calculated for the examined sales to the total quantity of those same sales. These importer-specific per-unit rates will be assessed uniformly on all entries of each importer that were made during the POR. In accordance with 19 CFR 351.106(c)(2), we will instruct Customs to liquidate without regard to antidumping duties any entries for which the importer-specific assessment rate is de minimis (i.e., less than 0.5 percent ad valorem). In testing whether any importer-specific assessment rate is de minimis, we used the reported data to calculate the freight on board at the port of export (“FOB”) price of U.S. sales and used this FOB price as an estimate for the entered value. For all shipments of subject merchandise for the four antidumping orders covering HFHTs from the PRC, exported by the respondents and imported by entities not identified by the respondents in their questionnaire responses, we will instruct Customs to assess antidumping duties at the cash deposit rate in effect on the date of the entry. Lastly, for the respondents receiving dumping rates based upon AFA, the Department, upon completion of these reviews, will instruct Customs to liquidate entries according to the AFA ad valorem rate. The Department will issue appraisement instructions directly to Customs upon the completion of the final results of these administrative reviews.

Reimbursement of Duties

This notice also serves as a final reminder to importers of their responsibility under 19 CFR 351.402(f) to file a certificate regarding the reimbursement of antidumping duties prior to liquidation of the relevant entries during this POR. Failure to comply with this requirement could result in the Secretary's presumption that reimbursement of antidumping duties occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these results and notice in accordance with sections 751(a) and 777(i) of the Act.

Dated: September 6, 2005.
Joseph A Spetrini,
Acting Assistant Secretary for Import Administration.

Appendix I - Decision Memorandum

I. General Comments:

Comment 1: Inclusion of Cast Picks within the Scope

Comment 2: Adverse Facts Available (“AFA”) for “Agent” Sales

Comment 3: AFA Rate for Bars/Wedges

Comment 4: Subsidy Suspicion Policy for Surrogate Value Sources in the Bars/Wedges Order

Comment 5: Denial of Due Process Rights

Comment 6: Changed Circumstance Reviews for the 10th and 11th AD Reviews of HFHTs

Comment 7: Combination Rates & Master List Assessment Instructions

II. Company Specific Comments

Comment 8: Huarong

A. Price Adjustment

B. AFA for Movement Expense

C. AFA for Labor

D. AFA for Packing

E. Scrap Offset

F. Surrogate Value for Steel Billet

G. Surrogate Value for Brokerage & Handling (“B&H”)

H. Inclusion of Packing Weight in Movement Expenses' Calculation

I. Factors of Production for Pallets

J. Application of Packing Materials and the Byproduct Offset in the Calculation of Normal Value

Comment 9: TMC

A. AFA for Failure at Verification

B. Separate Rate

C. AFA for Suppliers

D. Discounts

E. Surrogate Value for Scrap Rail

Comment 10: Jinma

[FR Doc. 05-18587 Filed 9-16-05; 8:45 am]

BILLING CODE 3510-DS-S